DEPARTMENT OF THE TREASURY

Office of Thrift Supervision

[AC-12: OTS Nos. 01538 and H-4393]

Bank of New Orleans, Metairie, LA, and Louisiana Bancorp, Inc., Metairie, LA; Approval of Conversion Application

Notice is hereby given that on May 14, 2007, the Managing Director, Examinations and Supervision—Operations, Office of Thrift Supervision, acting pursuant to delegated authority, approved the application of Bank of New Orleans, Metairie, Louisiana, to convert to the stock form of organization. Copies of the application are available for inspection by appointment (phone number: 202-906-5922 or e-mail: Public.Infor@OTS.Treas.gov) at the Public Reading Room, 1700 G Street, NW., Washington, DC 20552, and the OTS Midwest Regional Office, 225 E. John Carpenter Freeway, Suite 500, Irving, Texas 75062-2326.

Dated: May 15, 2007.
By the Office of Thrift Supervision.
Sandra E. Evans,
Legal Information Assistant.

[FR Doc. 07-2475 Filed 5-17-07; 8:45 am]

BILLING CODE 6720-01-M